NATIONAL AERONAUTICS AND SPACE ADMINISTRATION

[Notice (07-091)]

Government-Owned Inventions, Available for Licensing

AGENCY: National Aeronautics and Space Administration.

ACTION: Notice of Availability of Inventions for Licensing.

SUMMARY: The inventions listed below assigned to the National Aeronautics and Space Administration, have been filed in the United States Patent and Trademark office, and are available for licensing.

DATES: December 7, 2007.

FOR FURTHER INFORMATION CONTACT: Randy Heald, Patent Counsel, Kennedy Space Center, Mail Code CC-A, Kennedy Space Center, FL 32899; telephone (321) 867-7214; fax (321) 867-1817.

NASA Case No. KSC-12875: Self-Validating Thermocouple;

NASA Case No. KSC-12637-2: Removal of PCB and Other Halogenated Organic Contaminants Found in Ex Situ Structures;

NASA Case No. KSC-12539-2: Self-Healing Wire Insulation.

Dated: November 30, 2007.
Keith T. Sefton,
Deputy General Counsel, Administration and Management.

[FR Doc. E7-23742 Filed 12-6-07; 8:45 am]

BILLING CODE 7510-13-P